DEPARTMENT OF THE INTERIOR

Bureau of Land Management

[LLAK920000-L14100000-BJ0000]

Notice of Filing of Plats of Survey; Alaska

AGENCY: Bureau of Land Management, Interior.

ACTION: Notice of Filing of Plats of Survey.

SUMMARY: Notice of Filing of Plats of Survey; Alaska.

DATES: The plat(s) of survey described below is scheduled to be officially filed in the Alaska State Office, Bureau of Land Management, Anchorage, Alaska, thirty (30) days from the date of publication in the Federal Register.

ADDRESSES: Bureau of Land Management, Alaska State Office, 222 W. 7th Ave., Stop 13, Anchorage, AK 99513-7599.

FOR FURTHER INFORMATION CONTACT: Michael H. Schoder, Chief Cadastral Surveyor for Alaska, Division of Cadastral Survey, telephone: 907-271-5481; fax: 907-271-4549; e-mail: mschoder@blm.gov.

SUPPLEMENTARY INFORMATION: This survey was executed at the request of the Bureau of Indian Affairs, Alaska Region.

The lands surveyed are:

Seward Meridian, Alaska

T. 12 N., R. 2 W.

The plat(s) and field notes represent the dependent resurvey of a portion of the West boundary, a portion of the subdivisional lines and the survey of the subdivision of Section 30, Township 12 North, Range 2 West, Seward Meridian, in the state of Alaska.

We will place copies of the survey plat and field notes we describe in open files. They will be available to the public as a matter of information. Copies may be obtained from this office for a minimum recovery fee.

If BLM receives a protest against the survey, as shown on the plat, prior to the date of official filing, the filing will be stayed pending consideration of the protest. We will not officially file the plat until the day after we have accepted or dismissed all protests and they have become final, including decisions on appeals.

Authority: 43 U.S.C. chap. 3 sec. 53.

Dated: January 25, 2010.
Michael H. Schoder,
Chief Cadastral Surveyor.

[FR Doc. 2010-1807 Filed 1-28-10; 8:45 am]

BILLING CODE 4310-JA-P